DEPARTMENT OF ENERGY

Federal Energy Regulatory Commission

[Docket No. RM07-10-000]

Transparency Provisions of Section 23 of the Natural Gas Act; Notice of Extension of Time

April 9, 2009.

On April 8, 2009, the American Forest & Paper Association, the Process Gas Consumers Group, the Interstate Natural Gas Association of America, the Electric Power Supply Association, the Independent Petroleum Association of America, and the American Gas Association (the Associations) filed a joint motion for an extension of time for the initial filing of Form No. 552, as required by Commission Order Nos. 704, 704-A, and 704-B (Order No. 704).¹ The motion states that because many of the Associations' members are unfamiliar with reporting transactional data under the Commission's rules and because of questions about the requirements of Form No. 552, as well as informational system and data collection issues which must be addressed by the members, additional time is needed to submit the compliance filing.

¹ Transparency Provisions of Section 23 of the Natural Gas Act, Order No. 704, 121 FERC ¶ 61,295 (2007), order on reh'g, Order No. 704-A, 124 FERC ¶ 61,269 (2008), order on reh'g, Order No. 704-B, 125 ¶ 61,302 (2008).

Upon consideration, notice is hereby given that an extension of time for submitting the initial filing of Form 572 in compliance with Commission Order No. 704, is granted to and including July 1, 2009.

Nathaniel J. Davis, Sr.,
Acting Secretary.

[FR Doc. E9-8772 Filed 4-16-09; 8:45 am]

BILLING CODE 6717-01-P